FEDERAL ELECTION COMMISSION

Sunshine Act Notices

Date and Time: Tuesday, December 13, 2005 at 10 a.m.

Place: 999 E Street, NW., Washington, DC.

Status: This Meeting Will Be Closed to the Public.

Items to Be Discussed: Compliance matters pursuant to 2 U.S.C. 437g.

Audits conducted pursuant to 2 U.S.C. 437g, 438(b), and Title 26, U.S.C.

Internal personnel rules and procedures or matters affecting a particular employee.

Date and Time: Thursday, December 15, 2005 at 10 a.m.

Place: 999 E. Street, NW., Washington, DC (Ninth Floor).

Status: This Meeting Will Be Open to the Public.

Items to Be Discussed:

Correction and Approval of Minutes

Merit and Service Awards

Election of Officers

Final Rules and Explanation and Justification for Electioneering Communications

Final Rules and Explanation and Justification for Extension of Administrative Fines Program

Routine Administrative Matters

Person to Contact for Information: Mr. Robert Biersack, Press Officer, Telephone (202) 694-1220.

Mary W. Dove,
Secretary of the Commission.

[FR Doc. 05-23838 Filed 12-6-05; 10:45 am]

BILLING CODE 6715-01-M